DEPARTMENT OF COMMERCE

International Trade Administration

[A-533-813]

Notice of Amended Final Results of Antidumping Duty Administrative Review: Certain Preserved Mushrooms From India

AGENCY: Import Administration, International Trade Administration, U.S. Department of Commerce.

EFFECTIVE DATE: September 14, 2004.

FOR FURTHER INFORMATION CONTACT: Kate Johnson or David Goldberger, Import Administration, International Trade Administration, U.S. Department of Commerce, 14th Street and Constitution Avenue, NW., Washington, DC 20230; telephone: (202) 482-4929 or (202) 482-4136, respectively.

SUPPLEMENTARY INFORMATION:

Ministerial Error

Pursuant to 19 CFR 351.224(e), the Department of Commerce (the Department) is amending the final results of the administrative review of the antidumping duty order on certain preserved mushrooms from India to reflect the correction of ministerial errors it made in the margin calculations for Premier Mushroom Farms (Premier) and Agro Dutch Industries, Ltd. (Agro Dutch). A ministerial error is defined as an error in addition, subtraction, or other arithmetic function, clerical error resulting from inaccurate copying, duplication, or the like, and any other similar type of unintentional error which the Secretary considers ministerial. See 19 CFR 351.224(f). We are publishing this amendment to the final results pursuant to 19 CFR 351.224(e). As a result of this amended final results, we have revised the antidumping rates for Agro Dutch and Premier. See discussion below.

Ministerial Error Allegations

On August 20, 2004, the Department published its affirmative final results in this administrative review. See Certain Preserved Mushrooms From India: Final Results of Antidumping Duty Administrative Review, 69 FR 51630 (Final Results).

On August 17, 2004, we disclosed our calculations for the final results to counsel for Premier and Agro Dutch and to counsel for the petitioner.

On August 24, 2004, Agro Dutch alleged that the Department made a ministerial error in calculating the margin for Premier. On August 26, 2004, the petitioner filed a reply to the Agro Dutch's ministerial error allegation, and also alleged certain additional ministerial errors in the preliminary and final results margin calculations for Premier.

The alleged ministerial errors are described below. Also see Memorandum to Louis Apple from The Team, dated September 2, 2004, for further discussion of the ministerial error allegations and the Department's analysis.

Agro Dutch

1. The Department inadvertently used outdated home market and U.S. sales databases in its final margin calculations for Premier. According to Agro Dutch, this error impacted the final margin calculations for Agro Dutch because the profit used to calculate constructed value (CV) for Agro Dutch was based in part on the profit rate of Premier.

Petitioner

1. The Department inadvertently used computer programs that predate the preliminary results for purposes of the final results with respect to Premier.

2. Instead of applying a revised financial expense ratio to the cost of manufacturing (COM), the Department added an absolute value to the COM in its cost of production and CV calculations for Premier.

3. The Department omitted the revised general and administrative expense ratio both from the preliminary and final results programming for Premier.

After analyzing the submissions cited above, we have determined that ministerial errors, within the meaning of 19 CFR 351.224(f), were made in the final results margin calculations for Premier, as discussed above. See Memorandum to Louis Apple from The Team, dated September 2, 2004, for further discussion of the ministerial error allegations and the Department's analysis. Therefore, we have recalculated the margin for Premier. The Department hereby amends its final results with respect to Premier to correct these errors. Because the corrections made to the Premier final results margin calculations caused Premier's weighted-average home market selling expenses and profit, which were used in part to calculate Agro Dutch's CV, to change, we have also amended the final margin calculations for Agro Dutch.

The collection of cash deposits will be revised accordingly and parties will be notified of this determination, in accordance with section 751 of the Tariff Act of 1930, as amended (the Act).

Amended Final Results

As a result of our correction of ministerial errors in the Final Results, the revised weighted-average dumping margins are as follows:

Exporter/manufacturer | Original weighted-average margin percentage | Amended weighted-average margin percentage
Agro Dutch Industries, Ltd. | 34.57 | 33.47
Premier Mushroom Farms | 18.30 | 25.73

This determination is issued and published in accordance with sections 751 and 777(i)(1) of the Act and 19 CFR 351.224(e).

Dated: September 7, 2004.
James J. Jochum,
Assistant Secretary for Import Administration.

[FR Doc. E4-2189 Filed 9-13-04; 8:45 am]

BILLING CODE 3510-DS-P